DEPARTMENT OF COMMERCE

National Oceanic and Atmospheric Administration

Proposed Information Collection; Comment Request; West Coast Region Groundfish Trawl Fishery Monitoring and Catch Accounting Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 8, 2018.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to the West Coast Regional Office—7600 Sand Point Way NE., Seattle, WA 98115, Keeley Kent, telephone number ((206) 526-4655), or keeley.kent@noaa.gov.

SUPPLEMENTARY INFORMATION:

I. Abstract

This request is for extension of a currently approved information collection.

In January 2011, the National Oceanic and Atmospheric Administration's (NOAA) National Marine Fisheries Service (NMFS) implemented a trawl rationalization program, a catch share program, for the Pacific coast groundfish fishery's trawl fleet. The program was developed through Amendment 20 to the Groundfish Fishery Management Plan (FMP), under the authority of the Magnuson-Stevens Fishery Conservation and Management Act (16 U.S.C. 1801 et seq.) and consists of an individual fishing quota (IFQ) program for the shorebased trawl fleet (including whiting and non-whiting fisheries); and cooperative (coop) programs for the at-sea mothership (MS) and catcher/processor (C/P) trawl fleets (whiting only). Fixed allocations to the limited entry trawl fleet were developed through a parallel process with Amendment 21 to the FMP. The regulations implementing the program were effective January 1, 2011; all of the necessary tracking systems to make the program operational became active on January 11, 2011, the date fishing began under the new program. Since that time, the Council and NMFS have been addressing implementation issues as they arise. To achieve individual accountability for catch and bycatch and track total catch, the shorebased IFQ Program is subject to 100 percent monitoring both at-sea and dockside. In addition to 100 percent monitoring at-sea, motherships and catcher/processors are subject to flow scale requirements that include daily testing, reporting, and an annual inspection.

II. Method of Collection

This collection utilizes both electronic and paper forms, depending on the specific item. Methods of submittal include email of electronic forms, and mail and facsimile transmission of paper forms.

III. Data

OMB Control Number: 0648-0619.

Form Number(s): None.

Type of Review: Regular (extension of a current information collection).

Affected Public: Business or other for-profit organizations.

Estimated Number of Respondents: 155.

Estimated Time per Response: 10 hours for a Provider permit, 2 hours for an annual renewal, 4 hours each for appeals and catch monitoring plans; 1 hour each for a catch monitor qualification inseason testing of shorebased scales; 2 hours for an inspection; 10 minutes each for first receiver reports and electronic fish tickets ; 1 minute for Pacific whiting disposition recordkeeping; 30 minutes for daily at-sea scale testing reports, 10 minutes for daily at-sea scale catch and cumulative weight reports, 1 minute each for at-sea scale audit trail, at-sea scale calibration log, and at-sea scale fault log, and 0 minutes for at-sea scale video monitoring.

Estimated Total Annual Burden Hours: 1,826.

Estimated Total Annual Cost to Public: $14,628 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 6, 2017.
Sarah Brabson,
NOAA PRA Clearance Officer.

[FR Doc. 2017-24382 Filed 11-8-17; 8:45 am]

BILLING CODE 3510-22-P